DEPARTMENT OF THE INTERIOR

National Park Service

National Register of Historic Places; Notification of Pending Nominations and Related Actions

Nominations for the following properties being considered for listing or related actions in the National Register were received by the National Park Service before March 12, 2005. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, (202) 371-6447. Written or faxed comments should be submitted by April 7, 2005.

Carol D. Shull,
Keeper of the National Register of Historic Places.

Alabama

Jefferson County

22nd Avenue Baptist Church, (Civil Rights Movement in Birmingham, Alabama MPS), 2614 22nd Ave. N, Birmingham, 05000302

Bethel AME Church, (Civil Rights Movement in Birmingham, Alabama MPS), 1524 Avenue D, Ensley, Birmingham, 05000287

Canaan Baptist Church, (Civil Rights Movement in Birmingham, Alabama MPS), 824 Fifteenth Street North, Bessemer, 05000290

Christian Valley Baptist Church, (Civil Rights Movement in Birmingham, Alabama MPS), 3104 33rd Terrace N, Birmingham, 05000286

East End Baptist Church, (Civil Rights Movement in Birmingham, Alabama MPS), 2609 Sixth Ave. S, Birmingham, 05000292

First Baptist Church, East Thomas, (Civil Rights Movement in Birmingham, Alabama MPS), 419 11th Court West, Birmingham, 05000291

First Baptist Church, Kingston, (Civil Rights Movement in Birmingham, Alabama MPS), 4600 Ninth Ave. N, Birmingham, 05000300

First Ebenezer Baptist Church, (Civil Rights Movement in Birmingham, Alabama MPS), 420 Graymont Ave. North, Smithfield, Birmingham, 05000299

Metropolitan AME Church, (Civil Rights Movement in Birmingham, Alabama MPS), 1733 Eighteenth St., Ensley, 05000294

Metropolitan Community Church, (Civil Rights Movement in Birmingham, Alabama MPS), 335 64th St. S, Birmingham, 05000308

Mount Ararat Baptist Church, (Civil Rights Movement in Birmingham, Alabama MPS), 1920 Slayden Ave., Ensley, Birmingham, 05000307

New Pilgrim Baptist Church, (Civil Rights Movement in Birmingham, Alabama MPS), 903 Sixth Ave S, Birmingham, 05000306

New Rising Star Baptist Church, (Civil Rights Movement in Birmingham, Alabama MPS), 3104 33rd Place N, Collegeville, Birmingham, 05000305

Jefferson County

Oak Street Baptist Church, (Civil Rights Movement in Birmingham, Alabama MPS), 3224 Virginia Ave. N, Collegeville, Birmingham, 05000304

Peace Baptist Church, (Civil Rights Movement in Birmingham, Alabama MPS), 302 Sixth St. N, Birmingham, 05000293

Sardis Baptist Church, (Civil Rights Movement in Birmingham, Alabama MPS), 1240 Fourth St. N, Birmingham, 05000298

Shady Grove Baptist Church, (Civil Rights Movement in Birmingham, Alabama MPS), 3444 31st Way North, Collegeville, Birmingham, 05000297

St. Luke AME Church, (Civil Rights Movement in Birmingham, Alabama MPS), 2803 21st Ave. N, Birmingham, 05000296

St. Luke AME Zion Church, (Civil Rights Movement in Birmingham, Alabama MPS), 3937 12th Ave. N, Birmingham, 05000295

St. Peter Primitive Baptist Church, (Civil Rights Movement in Birmingham, Alabama MPS), 2115 Fourth Ave. N, Bessemer, 05000301

West End Hills Missionary Baptist Church, (Civil Rights Movement in Birmingham, Alabama MPS), 1680 19th Place SW, Birmingham, 05000303

Mobile County

Church Street East Historic District (Boundary Increase), 66 and 68 S. Royal St., Mobile, 05000289

St. Clair County

Ashville Historic District, (Civil Rights Movement in Birmingham, Alabama MPS), Bounded by AL 23, Greensport Rd., 8th Ave., Waldrop Dr., AL 231, and 5th St., Ashville, 05000288

Alaska

Wrangell-Peterburg Borough-Census Area

F/V CHARLES W (Schooner), Middle Harbor, W Float, Slip 299, Petersburg, 05000285

Colorado

Chaffee County

Hutchinson Ranch (Boundary Increase), 8911 W. I-50, Salida, 05000309

Florida

Flagler County

Dixie Highway—Hastings, Espanola and Bunnell Road, Roughly Espanola (Flagler County to Cty Rte 204 (St. Johns County), Espanola, 05000311

St. Johns County

St. Augustine Civic Center, (Florida's New Deal Resources MPS), 10 Castillo Dr., St. Augustine, 05000316

Volusia County

Ormond Yacht Club, 63 N. Beach St., Ormond Beach, 05000310

Indiana

Vigo County

Twelve Points Historic District, Lafayette Ave. from Linden to 13th St. and Maple Ave. from Garfield to 13th St., Terre Haute, 05000314

Whitley County

Souder, Dr. Christpher, House, 214 W. Main St., Larwill, 05000315

Iowa

Story County

Henryson, Henry T. and Emilie (Wiese), House, 619 Grad Ave., Story City, 05000317

New York

Nassau County

Sea Cliff Village Hall, Library and Museum Complex, 300 Sea Cliff Ave., Sea Cliff, 05000328

Saratoga County

West, George, House, 801 NY 29, Rock City Falls, 05000312

Suffolk County

Brecknock Hall, North Rd. near Manhassett Ave., Stirling/Town of Southold, 05000331

Hallock, Joseph Nelson, House, Main Rd. and Maple Ave., Southold, 05000330

Landon, Samuel, House, Main Rd Bet. Hobart Rd. and Maple Ln., Southold, 05000329

North Carolina

Buncombe County

Municipal Golf Course, 226 Fairway Dr., Asheville, 05000318

Martin County

Robersonville Primitive Baptist Church, 107 N. Outterbridge St., Robersonville, 05000322

Smithwick's Creek Primitive Baptist Church, Jct. of NC 1106 at NC 1516, Farm Life, 05000324

Spring Green Primitive Baptist Church, Jct. of NC 1409 and NC 903, Hamilton, 05000323

Orange County

Beta Theta Pi Faternity House, 114 South Columbia St., Chapel Hill, 05000325

Randolph County

Randleman Graded School, 130 W. Academy St., Randleman, 05000326

Richmond County

Bostick School, 604 Clayton Carriker Rd., Ellerbe, 05000327

Rockingham County

Washington Mills—Mayodan Plant, 7801 NC 35, Mayodan, 05000319

Wake County

Lawrence, Dr. Elmo N., House, (Wake County MPS), 2121 Lake Wheeler Rd., Raleigh, 05000320

Rothstein, Mae and Philip, House, (Early Modern Architecture Associated with NCSU School of Design Faculty MPS), 912 Williamson Dr., Raleigh, 05000321

Pennsylvania

Montgomery County

Evans, William and Mordecai, House, 1206 Main St., Linfield, Limerick Township, 05000332

Virginia

Albemarle County

Bentival (002-0127), 1601 Bentivar Farm Rd., Charlottesville, 05000333

Washington

King County

Covenant Beach Bible Camp, Cliff Ave. and 220th St., Des Moines, 05000313

Wisconsin

Racine County

Mitchell Lewis Building, 85 Eighth St., Racine, 05000334

[FR Doc. 05-5758 Filed 3-22-05; 8:45 am]

BILLING CODE 4312-51-P